DEPARTMENT OF AGRICULTURE

Forest Service

Crescent Ranger District; Deschutes National Forest; Oregon; Three Trails Off Highway Vehicle Project

AGENCY: Forest Service, USDA.

ACTION: Notice of intent to prepare an environmental impact statement.

SUMMARY: The USDA, Forest Service, will prepare an Environmental Impact Statement (EIS) on a proposed action to designate an Off Highway Vehicle (OHV) trail system on the Crescent Ranger District of the Deschutes National Forest. In addition, the proposal would close roads, rehabilitate unneeded trails, and develop staging areas within the 77,000-acre project area. The proposed trail system would be located on National Forest lands between Crescent Lake Junction and the boundary of the Winema National Forest, west of Crescent, Oregon. The legal location is Townships 23-26 south and Ranges 6-9 east, Willamette Meridian. The analysis area contains three distinct areas with a focused trail system that will eventually be interconnected: Two Rivers, Walker Mountain, and Crescent Lake Junction. The alternatives will include the proposed action, no action, and additional alternatives that respond to issues generated through the scoping process. The agency will give notice of the full environmental analysis and decision making process so interested and affected people may participate and contribute to the final decision.

DATES: Comments concerning the scope of the analysis must be received by 30 days following the date that this notice appears in the Federal Register.

ADDRESSES: Send written comments to Joan Kittrell, Team Leader, Crescent Ranger District, P.O. Box 208, Crescent, Oregon 97733, or submit to comments-pacificnorthwest-deschutes-crescent@fs.fed.us. Please put “Three Trails OHV Scoping” in the subject line of your e-mail. You will have another opportunity for comment when alternatives have been developed and the Environmental Impact Statement is made available.

FOR FURTHER INFORMATION CONTACT: Joan Kittrell, Team Leader, Crescent Ranger District, P.O. Box 208, Crescent, Oregon 97733, phone (541) 433-3200.

Responsible Official: The responsible official will be John Allen, Deschutes National Forest Supervisor, 1001 SW Emkay Drive, Bend, Oregon 97701.

SUPPLEMENTARY INFORMATION: Purpose and Need. The need for this site-specific proposal is basically a result of a much larger process all National Forests are implementing; the Travel Management Rule. In 2005, the Forest Service codified a national rule that prohibits motorized travel off of designated routes. The Deschutes National Forest is currently in the process of developing an Environmental Impact Statement (EIS) to display the environmental effects of implementing the Travel Management Rule, which is expected to occur by 2010. Currently, there are no designated OHV trails on the Crescent Ranger District. The Three Trails area is used extensively by off highway enthusiasts, as demonstrated by the many user-created trails. They also utilize other existing roads (closed and open) which may or may not be maintained for high clearance vehicles. Recognizing the effect to the OHV community once the Travel Management Rule is implemented, the Deschutes and Ochoco National Forests were proactive in identifying opportunities for a trail system in sustainable locations. Through a working group of motorized and non-motorized participants, three areas were identified that had potential community support for a designated trail system. The Three Trails OHV Project is one of them.

Proposed Action. Basically, the proposal would provide approximately 110-130 miles of interlinking trails in three main areas with associated staging areas. The trail system would vary in skill level and density to match the terrain, design of the staging areas, and to provide an opportunity for beginner through advanced riding experiences. Where redundant access exists, or user-created trails are in undesired locations (such as within riparian resources or desired wildlife habitat), closure and rehabilitation/restoration would be performed on 50 miles. To balance the increase open road/trail density associated with a designated trail system, approximately 65 miles of roads would be closed. A general season of use would be May 1 through October 31.

Comment. Public comments about this proposal are requested in order to assist in identifying issues, determine how to best manage the resources, and to focus the analysis. Comments received to this notice, including names and addresses of those who comment, will be considered part of the public record on this proposed action and will be available for public inspection. Comments submitted anonymously will be accepted and considered; however, those who submit anonymous comments will not have standing to appeal the subsequent decision under 36 CFR parts 215. Additionally, pursuant to 7 CFR 1.27(d), any person may request the agency to withhold a submission from the public record by showing how the Freedom of Information Act (FOIA) permits such confidentiality. Persons requesting such confidentiality should be aware that, under FOIA, confidentiality may be granted in only very limited circumstances, such as to protect trade secrets. The Forest Service will inform the requester of the agency's decision regarding the request for confidentiality, and where the request is denied the agency will return the submission and notify the requester that the comments may be resubmitted with or without name and address within a specified number of days.

A draft EIS will be filed with the Environmental Protection Agency (EPA) and available for public review by Summer 2009. The EPA will publish a Notice of Availability (NOA) of the draft EIS in the Federal Register. The final EIS is scheduled to be available Fall 2009.

The comment period on the draft EIS will be 45 days from the date the EPA publishes the notice of availability in the Federal Register.

The Forest Service believes, at this early stage, it is important to give reviewers notice of several court rulings related to public participation in the environmental review process. First, reviewers of a draft EIS must structure their participation in the environmental review of the proposal so that it is meaningful and alerts an agency to the reviewer's position and contentions [Vermont Yankee Nuclear Power Corp. v. NRDC, 435 U.S. 519, 553 (1978)]. Also, environmental objections that could be raised at the draft EIS stage but that are not raised until after completion of the final EIS may be waived or dismissed by the courts [City of Angoon v. Harris, 490 F. Supp. 1334, 1338 (E.D, Wis. 1980)]. Because of these court rulings, it is very important that those interested in this proposed action participate by the close of the 45-day comment period so that comments and objections are made available to the Forest Service at a time when it can meaningfully consider them and respond to them in the final EIS.

To assist the Forest Service in identifying and considering issues and concerns on the proposed action, comments on the draft EIS should be as specific as possible. It is also helpful if comments refer to specific pages or chapters of the draft statement. Comments may also address the adequacy of the draft EIS of the merits of the alternatives formulated and discussed in the statement. Reviewers may wish to refer to the Council on Environmental Quality Regulations for implementing the procedural provisions of the National Environmental Policy Act at 40 CFR 1503.3 in addressing these points.

In the final EIS, the Forest Service is required to respond to comments received during the comment period for the draft EIS. The Forest Service is the lead agency and the responsible official is the Crescent District Ranger, Deschutes National Forest. The responsible official will decide where, and whether or not to designate a trail system, staging areas, and close roads. The responsible official will also decide how to mitigate impacts of these actions and will determine when and how monitoring of effects will take place.

The Three Trails OHV Project decision and the reasons for the decision will be documented in the Record of Decision. That decision will be subject to Forest Service Appeal Regulations (35 CFR Part 215).

John Allen,
Deschutes National Forest Supervisor.

[FR Doc. E9-3787 Filed 2-24-09; 8:45 am]

BILLING CODE 3410-11-M